DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by July 6, 2004.

Title and OMB Number: Customer Satisfaction Surveys—Generic Clearance; OMB Number 0730-0003.

Type of Request: Extension.

Number of Respondents: 15,000.

Responses Per Respondent: 1.

Annual Responses: 15,000.

Average Burden Per Response: 8 minutes (average).

Annual Burden Hours. 2,000 hours.

Needs and Uses: The information collection requirement is necessary to determine the kind and quality of services Defense Finance and Accounting Service (DFAS) customers want and expect, as well as their satisfaction with DFAS's existing services. DFAS will conduct a variety of activities to include, but not necessarily limited to, customer satisfaction surveys, transaction based on telephone interviews, Interactive Voice Response Systems (IVRS) telephonic surveys, etc. The surveys allow DFAS to obtain the knowledge necessary to provide the best service possible and provide unfiltered feedback from the customer for process improvement activities. The information collected provides data about customer perceptions and can help identify agency operations that require quality improvement, provide early detection of process or systems problems, and focus attention on areas where customer service and functional training or changes in existing operations will improve service delivery.

Affected Public: Individuals or Households; Business or Other For-Profit; Not-For-Profit Institutions; State, Local or Tribal Government.

Frequency: Annually.

Respondent's Obligation: Voluntary.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/ESCD/Information Management Division, 1225 South Clark Street, Suite 504, Arlington, VA 22202-4326.

Dated: May 26, 2004.
L.M. Bynum,
Alternate OSD Federal Register Liaison Officer, Department of Defense.

[FR Doc. 04-12472 Filed 6-2-04; 8:45 am]

BILLING CODE 5001-06-M